DEPARTMENT OF ENERGY

Federal Energy Regulatory Commission

[Docket No. EG03-15-000, et al.]

Termoelectrica U.S., LLC, et al.; Electric Rate and Corporate Filings

November 15, 2002.

The following filings have been made with the Commission. The filings are listed in ascending order within each docket classification.

1. Termoelectrica U.S., LLC

[Docket No.EG03-15-000]

On November 12, 2002, Termoelectrica U.S., LLC (Applicant), located at 101 Ash Street; San Diego, California 92101, filed with the Federal Energy Regulatory Commission (Commission) an application for determination of exempt wholesale generator status pursuant to part 365 of the Commission's regulations.

Applicant will own the United States portion of a transmission line connecting a natural gas-fired and steam-fired generating facility located west of Mexicali in Baja California, United Mexican States to the already existing San Diego Gas & Electric Company Imperial Valley substation. The generating facility will be directly owned and operated by Termoelectrica de Mexicali, S. de R.L. de C.V.

Comment Date: December 6, 2002.

2. Riverview Energy Center, LLC

[Docket No. EG03-16-000]

Take notice that on November 12, 2002, Riverview Energy Center, LLC (Riverview) filed with the Federal Energy Regulatory Commission (Commission) an application for determination of exempt wholesale generator status pursuant to part 365 of the Commission's regulations.

Riverview, a Delaware limited liability company, proposes to own and operate a nominally rated 45 MW natural gas-fired, simple cycle electric generating facility to be located in Contra Costa County, California. Riverview intends to sell the output at wholesale to an affiliated marketer.

Comment Date: December 6, 2002.

3. Manchief Power Company, L.L.C.

[Docket No. EG03-18-000]

Take notice that on November 13, 2002, Manchief Power Company, L.L.C., with its principal place of business at 1001 Louisiana Street, P.O. Box 2511, Houston, Texas, 77002, filed with the Federal Energy Regulatory Commission an application for determination of exempt wholesale generator status pursuant to part 365 of the Commission's regulations. Manchief Power Company, L.L.C. is a Delaware limited liability company that owns a generation facility near Brush, Colorado.

Comment Date: December 6, 2002.

4. PPL Great Works, LLC

[Docket No. ER99-4503-002

Take notice that on November 8, 2002, PPL Great Works, LLC filed an updated market power analysis pursuant to the Commission's order in Middleton Power LLC, 89 FERC ¶ 61,151 (1999).

PPL Great Works, LLC served a copy of this filing on the parties on the Commission's official service list for this docket.

Comment Date: November 29, 2002.

5. Midwest Independent Transmission System Operator, Inc.

[FERC Docket No. ER02-290-002]

Take notice that on November 12, 2002, the Midwest Independent Transmission System Operator, Inc. (the Midwest ISO) tendered for filing its Process for the Use of Network Resources Outside of the Midwest ISO and Resolving Competing Requests for Transmission Service Among Network Customers and between Point-to-Point and Network Customers as Attachment U to its Open Access Transmission Tariff in compliance with the Commission's October 10, 2002 Order issued in Midwest Independent Transmission System Operator, Inc., 101 FERC ¶ 61,030.

The Midwest ISO has requested waiver of the requirements set forth in 18 CFR 385.2010. The Midwest ISO has electronically served a copy of this filing, with attachments, upon all Midwest ISO Members, Member representatives of Transmission Owners and Non-Transmission Owners, the Midwest ISO Advisory Committee participants, Policy Subcommittee participants, as well as all state commissions within the region. In addition, the filing has been electronically posted on the Midwest ISO's website at www.midwestiso.org under the heading “Filings to FERC” for other interested parties in this matter.

Comment Date: December 3, 2002.

6. Thompson River Co-Gen, LLC

[Docket No. ER02-298-001]

Take notice that on November 12, 2002, Thompson River Co-Gen, LLC (Thompson) petitioned the Commission for acceptance of Thompson Rate Schedule FERC No. 1; the granting of certain blanket approvals, including the authority to sell electricity at market-based rates, and waiver of certain Commission regulations.

Thompson intends to sell at wholesale electricity generated from a 16-megawatt cogeneration facility located in Thompson Falls, Montana, to NorthWestern Energy, LLC, (NWE). Thompson does not intend to make other wholesale sales of electricity to any entity other than NWE. Thompson is an LLC with passive ownership interests, and Barry Bates and Lawrence Underwood are the Partners and will manage Thompson's day-to-day business. Thompson has no legal or economic interest, and is not in any way related to, any utility or other entity that owns any generation, transmission or other jurisdictional facilities.

Comment Date: December 3, 2002.

7. Duke Energy Corporation

[Docket Nos. ER02-2480-002 and EL02-118-000]

Take notice that on November 12, 2002, Duke Energy Corporation filed its compliance filing in the above captioned proceeding.

Comment Date: December 3, 2002.

8. Consumers Energy Company

[Docket No. ER03-153-001]

Take notice that on November 12, 2002, Consumers Energy Company (Consumers) filed a Service Agreement No. 50 under its Electric Sales Tariff FERC No. 7. A cover sheet, in accordance with the provisions of Order 614, was mistakenly not included with the filing. Attached is a cover sheet.

Comment Date: December 3, 2002.

9. Westar Energy, Inc.

[Docket No. ER03-172-000]

Take notice that on November 12, 2002, Westar Energy, Inc. (Westar) submitted for filing Service Schedule WRC-10/2002 (Schedule), which will supercede Service Schedule WRC-8/2002 with Federal Energy Regulatory Commission (Commission) approval. The Schedule is proposed to be effective on October 31, 2002. The changes in the Schedule provide for customers taking service under the Schedule to receive billing credits for alternative resources obtained from third parties or other Westar tariffs.

A copy of this filing was served upon the Kansas Corporation Commission, Kaw Valley Electric, Nemaha-Marshall Electric Cooperative Association, Inc. and Doniphan Electric Cooperative.

Comment Date: December 3, 2002.

10. Cinergy Services, Inc.

[Docket No. ER03-174-000]

Take notice that on November 12, 2002, Cinergy Services, Inc.(Cinergy), on behalf of PSI Energy, Inc (PSI), a Cinergy Corp. utility operating company, tendered for filing a Notice of Termination of an Interconnection Agreement (IA) and Facility Construction Agreement (FCA) between Cinergy and Duke Energy Vigo, LLC. Termination of the IA and FCA has been mutually agreed to by Cinergy and Duke Energy Vigo, LLC.

Comment Date: December 3, 2002.

11. Termoelectrica U.S., LLC

[Docket No. ER03-175-000]

Take notice that on November 12, 2002, Termoelectrica U.S., LLC., (Termoelectrica US) tendered for filing pursuant to Rule 205, 18 CFR 3 85.205, a petition for waivers and blanket approvals under various regulations of the Commission and for an order accepting its Rate Schedule authorizing Termoelectrica U.S. to make sales at market-based rates. Termoelectrica U.S. has requested waiver of the Commission's regulations to permit an effective date of sixty days from the date of this filing.

Termoelectrica U.S. intends to sell electric power and ancillary services at wholesale. In transactions where Termoelectrica U.S. sells electric power or ancillary services it proposes to make such sales on rates, terms, and conditions to be mutually agreed to with the purchasing party. Rate Schedule No. I provides for the sale of energy and capacity and ancillary services at agreed prices.

Comment Date: December 3, 2002.

12. Kansas City Power & Light Company

[Docket No.ER03-176-000]

Take notice that on November 12, 2002, Kansas City Power & Light Company (KCPL) tendered for filing an Amendatory Agreement No. 3, dated September 28, 2002 between Kansas City Power & Light Company(KCPL) and the Board of Public Utilities of Kansas City, Kansas. KCPL proposes an effective date of December 1, 2002 and requests any necessary waiver of the Commission's notice requirement.

Comment Date: December 3, 2002.

13. American Electric Power Service Corporation

[Docket No. ER03-177-000]

Take notice that on November 12, 2002, the American Electric Power Service Corporation (AEPSC) tendered for filing an executed amended and restated Interconnection and Operation Agreement between Columbus Southern Power Company and Duke Energy Franklin LLC. The agreement is pursuant to the AEP Companies' Open Access Transmission Service Tariff (OATT) that has been designated as the Operating Companies of the American Electric Power System FERC Electric Tariff Third Revised Volume No. 6, effective July 10, 2002.

AEP requests an effective date of June 25, 2001, the same effective date of the Interconnection and Operation Agreement in Commission's Order Conditionally Accepting Unexecuted Interconnection and Operation Agreement issued in this docket on June 28, 2001, 95 FERC ¶ 61,472. A copy of the filing was served upon the Ohio Public Utilities Commission.

Comment Date: December 3, 2002.

14. PJM Interconnection, L.L.C.

[Docket No. ER03-178-000]

Take notice that on November 12, 2002 PJM Interconnection, L.L.C. (PJM), submitted for filing an executed interconnection service agreement between PJM and Reliant Energy Hunterstown, L.L.C.

PJM requests a waiver of the Commission's 60-day notice requirement to permit the effective date agreed to by the parties. Copies of this filing were served upon Reliant Energy Hunterstown, L.L.C. and the state regulatory commissions within the PJM region.

Comment Date: December 3, 2002.

15. FPL Energy New Mexico Wind, LLC

[Docket No. ER03-179-000]

Take notice that on November 12, 2002, FPL Energy New Mexico Wind, LLC tendered for filing an application for authorization to sell energy and capacity at market-based rates pursuant to section 205 of the Federal Power Act.

Comment Date: December 3, 2002.

Standard Paragraph

Any person desiring to intervene or to protest this filing should file with the Federal Energy Regulatory Commission, 888 First Street, NE., Washington, DC 20426, in accordance with Rules 211 and 214 of the Commission's Rules of Practice and Procedure (18 CFR 385.211 and 385.214). Protests will be considered by the Commission in determining the appropriate action to be taken, but will not serve to make protestants parties to the proceeding. Any person wishing to become a party must file a motion to intervene. All such motions or protests should be filed on or before the comment date, and, to the extent applicable, must be served on the applicant and on any other person designated on the official service list. This filing is available for review at the Commission or may be viewed on the Commission's Web site at http://www.ferc.gov, using the “FERRIS” link. Enter the docket number excluding the last three digits in the docket number filed to access the document. For assistance, contact FERC Online Support at FERCOnlineSupport@ferc.gov or toll-free at (866)208-3676, or for TTY, contact (202)502-8659. Protests and interventions may be filed electronically via the Internet in lieu of paper; see 18 CFR 385.2001(a)(1)(iii) and the instructions on the Commission's web site under the “e-Filing” link. The Commission strongly encourages electronic filings.

Linwood A. Watson, Jr.,
Deputy Secretary.

[FR Doc. 02-29744 Filed 11-21-02; 8:45 am]

BILLING CODE 6717-01-P